ENVIRONMENTAL PROTECTION AGENCY

40 CFR Part 52

[EPA-R10-OAR-2024-0569: FRL-12446-02-R10]

Air Plan Approval; Oregon; Lane Regional Air Protection Agency, Outdoor Burning

AGENCY: Environmental Protection Agency (EPA).

ACTION: Final rule.

SUMMARY: The Environmental Protection Agency (EPA) is approving and incorporating by reference into the Oregon State Implementation Plan (SIP) the Lane Regional Air Protection Agency (LRAPA) revised outdoor burning rule revisions submitted by the Oregon Department of Environmental Quality (ODEQ) on July 1, 2024, in coordination with LRAPA. The revised rule, applicable in Lane County, Oregon, clarifies terminology, revises formatting, and expands the residential outdoor burning season to allow burning of woody yard trimmings on approved burn days within Lowell city limits from October 1 through June 15. The ODEQ included in the submittal a technical demonstration that the requested expansion of the residential outdoor burning season will not interfere with attainment and maintenance of the NAAQS and other applicable Clean Air Act (CAA) requirements. The EPA is approving these revisions because they meet the applicable requirements of the Clean Air Act.

DATES: This final rule is effective September 15, 2025.

ADDRESSES: The EPA has established a docket for this action under Docket ID No. EPA-R10-OAR-2024-0569 at https://www.regulations.gov. Although listed in the index, some information is not publicly available, e.g., Confidential Business Information or other information the disclosure of which is restricted by statute. Certain other material, such as copyrighted material, is not placed on the internet and will be publicly available only in hard copy form. Publicly available docket materials are available at https://www.regulations.gov, or please contact the person listed in the FOR FURTHER INFORMATION CONTACT section for additional availability information.

FOR FURTHER INFORMATION CONTACT: Jacob Wolf, EPA Region 10, 950 West Bannock Avenue—Suite 900, Boise, ID 83702, at (206) 553-0275, or wolf.jacob@epa.gov.

SUPPLEMENTARY INFORMATION: Throughout this document, wherever “we,” “us,” or “our” is used, it is intended to refer to the EPA.

Table of Contents

I. Background

II. Final Action

III. Incorporation by Reference

IV. Statutory and Executive Order Reviews

I. Background

On July 1, 2024, the ODEQ and LRAPA submitted revisions to the Oregon SIP as it applies in Lane County. These changes include updates to the LRAPA section 47-015(2) outdoor burning rule to expand the outdoor burning season in the city of Lowell (which is located in the Eugene-Springfield metropolitan statistical area), updates and revisions to definitions in section 47-010, and revisions to formatting throughout section 47-001, section 47-005, section 47-010, section 47-015, and section 47-020. On May 23, 2025, the EPA proposed to approve these changes (90 FR 22051). The reasons for our proposed approval were stated in the proposed rulemaking and will not be re-stated here. The public comment period for our proposed action ended on June 23, 2025. We received no comments.

II. Final Action

We are approving, and incorporating by reference into the Oregon SIP, the submitted revisions to the LRAPA title 47 outdoor burning rule, sections 001, 005, 010 (except the definition of “nuisance”), 015 (except (1)(d), (1)(h), and the note in (2)(i)), and 020 (except (3), (9)(i), and (10)). These rules became State effective May 24, 2024, and were submitted to the EPA by the ODEQ in coordination with LRAPA on July 1, 2024. Based on the demonstration provided by ODEQ and LRAPA, we find that these revisions will not interfere with attainment of the NAAQS or any other applicable requirement of the Clean Air Act.

III. Incorporation by Reference

In this document, the EPA is finalizing regulatory text that includes incorporation by reference. In accordance with requirements of 1 CFR 51.5, we are finalizing the incorporation by reference of LRAPA Title 47 revisions, State effective May 24, 2024, as described in section II of this preamble and set forth in the amendments to 40 CFR part 52 in this document. The EPA has made, and will continue to make, these documents generally available through https://www.regulations.gov and at the EPA Region 10 Office (please contact the person identified in the FOR FURTHER INFORMATION CONTACT section of this preamble for more information). Therefore, these materials have been approved by the EPA for inclusion in the SIP, have been incorporated by reference by the EPA into that plan, are fully Federally-enforceable under sections 110 and 113 of the CAA as of the effective date of the final rulemaking of the EPA's approval, and will be incorporated by reference by the Director of the Federal Register in the next update to the SIP compilation.

IV. Statutory and Executive Order Reviews

Under the Clean Air Act, the Administrator is required to approve a SIP submission that complies with the provisions of the Clean Air Act and applicable Federal regulations. 42 U.S.C. 7410(k); 40 CFR 52.02(a). Thus, in reviewing SIP submissions, the EPA's role is to approve state choices, provided that they meet the criteria of the Clean Air Act. Accordingly, this action merely approves State law as meeting Federal requirements and does not impose additional requirements beyond those imposed by state law. For that reason, this action:

• Is not a significant regulatory action subject to review by the Office of Management and Budget under Executive Order 12866 (58 FR 51735, October 4, 1993);

• Is not subject to Executive Order 14192 (90 FR 9065, February 6, 2025) because SIP actions are exempt from review under Executive Order 12866:

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a State program;

• Is not a significant regulatory action subject to Executive Order 13211 (66 FR 28355, May 22, 2001); and

• Is not subject to requirements of section 12(d) of the National Technology Transfer and Advancement Act of 1995 (15 U.S.C. 272 note) because application of those requirements would be inconsistent with the Clean Air Act.

In addition, the SIP is not approved to apply on any Indian reservation land or in any other area where the EPA or an Indian Tribe has demonstrated that a Tribe has jurisdiction. In those areas of Indian country, the rule does not have Tribal implications and will not impose substantial direct costs on Tribal governments or preempt Tribal law as specified by Executive Order 13175 (65 FR 67249, November 9, 2000).

This action is subject to the Congressional Review Act, and the EPA will submit a rule report to each House of the Congress and to the Comptroller General of the United States. This action is not a “major rule” as defined by 5 U.S.C. 804(2).

Under section 307(b)(1) of the Clean Air Act, petitions for judicial review of this action must be filed in the United States Court of Appeals for the appropriate circuit by September 15, 2025. Filing a petition for reconsideration by the Administrator of this final rule does not affect the finality of this action for the purposes of judicial review nor does it extend the time within which a petition for judicial review may be filed and shall not postpone the effectiveness of such rule or action. This action may not be challenged later in proceedings to enforce its requirements. (See section 307(b)(2).)

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Authority: 42 U.S.C. 7401 et seq.

Dated: August 1, 2025.
Emma Pokon,
Regional Administrator, Region 10.

For the reasons stated in the preamble, 40 CFR part 52 is amended as follows:

PART 52—APPROVAL AND PROMULGATION OF IMPLEMENTATION PLANS

1. The authority citation for part 52 continues to read as follows:

Authority: 42 U.S.C. 7401 et seq.

Subpart MM—Oregon

2. In § 52.1970, amend paragraph (c), Table 4, under the heading “Title 47—Rules for Outdoor Burning”, by revising the entries for “47-001”, “47-005”, “47-010”, “47-015”, and “47-020” to read as follows:

§ 52.1970 Identification of plan.

* * * * *

(c) * * *

Table 4—EPA Approved Lane Regional Air Protection Agency (LRAPA) Rules for Lane County, Oregon ¹
LRAPA citation | Title/subject | State effective date | EPA approval date | Explanations
* * * * * * *
Title 47—Rules for Outdoor Burning
47-001 | General Policy | 5/24/2024 | 8/14/2025, 90 FR [INSERT FEDERAL REGISTER PAGE WHERE THE DOCUMENT BEGINS] |
47-005 | Exemptions from These Rules | 5/24/2024 | 8/14/2025, 90 FR [INSERT FEDERAL REGISTER PAGE WHERE THE DOCUMENT BEGINS] |
47-010 | Definitions | 5/24/2024 | 8/14/2025, 90 FR [INSERT FEDERAL REGISTER PAGE WHERE THE DOCUMENT BEGINS] | Except the definition of “nuisance.”
47-015 | Outdoor Burning Requirements | 5/24/2024 | 8/14/2025, 90 FR [INSERT FEDERAL REGISTER PAGE WHERE THE DOCUMENT BEGINS] | Except (1)(d), (1)(h) and the note in (2)(i).
47-020 | Letter Permits | 5/24/2024 | 8/14/2025, 90 FR [INSERT FEDERAL REGISTER PAGE WHERE THE DOCUMENT BEGINS] | Except (3), (9)(i), and (10).
* * * * * * *
¹ The EPA approves the requirements in Table 4 of this paragraph (c) only to the extent they apply to (1) pollutants for which NAAQS have been established (criteria pollutants) and precursors to those criteria pollutants as determined by the EPA for the applicable geographic area; and (2) any additional pollutants that are required to be regulated under Part C of Title I of the CAA, but only for the purposes of meeting or avoiding the requirements of Part C of Title I of the CAA.

* * * * *

[FR Doc. 2025-15441 Filed 8-13-25; 8:45 am]

BILLING CODE 6560-50-P